DEPARTMENT OF ENERGY

Federal Energy Regulatory Commission

[Docket Nos. EL12-42-000 and EL12-43-000]

TGP Granada, LLC v. Public Service Company of New Mexico; Tortoise Capital Resources Corp.: Notice of Complaint and Petition for Declaratory Order

Take notice that on March 2, 2012, pursuant to section 206 of the Federal Power Act, 16 U.S.C. 824e, Rules 206, 207, and 212 of the Rules of Practice and Procedure of the Federal Energy Regulatory Commission (Commission); 18 CFR 385.206 (2012), 18 CFR 385.207 (a)(2), and 385.212 (2012), TGP Granada, LLC (Complainant) filed (1) a formal complaint against the Public Service Company of New Mexico (PNM) and Tortoise Capital Resources Corp. (Respondents), requesting the Commission to direct the Respondents to identify the party that will immediately assume the obligation for making transmission capacity on the Eastern Interconnection Project (EIP) available to customers now for use after the April 1, 2015 expiration of the EIP Lease Agreement and (2) a petition for declaratory order requesting that the Commission confirm that section 23.2 of the PNM tariff allows the permitted assignee of a Transmission Service Agreement (TSA) to change the point of receipt (POR) associated with the TSA without losing its transmission service priority, provided the change will not impair the operation and reliability of PNM's generation, transmission, or distribution systems. If the Commission denies the Complainant's petition for declaratory order, the Complainant requests that the Commission waives sections 22.2 and 23.2 of the PNM tariff, to allow TGP to change the POR without losing its current transmission service priority.

The Complainant certifies that copies of the complaint were served on the contacts for the Respondents as listed on the Commission's list of Corporate Officials.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street NE., Washington, DC 20426.

This filing is accessible on-line at http://www.ferc.gov, using the “eLibrary” link and is available for review in the Commission's Public Reference Room in Washington, DC. There is an “eSubscription” link on the web site that enables subscribers to receive email notification when a document is added to a subscribed docket(s). For assistance with any FERC Online service, please email FERCOnlineSupport@ferc.gov, or call (866) 208-3676 (toll free). For TTY, call (202) 502-8659.

Comment Date: 5 p.m. Eastern Time on April 2, 2012.

Dated: March 5, 2012.
Kimberly D. Bose,
Secretary.

[FR Doc. 2012-5846 Filed 3-9-12; 8:45 am]

BILLING CODE 6717-01-P